DEPARTMENT OF HEALTH AND HUMAN SERVICES

Centers for Disease Control and Prevention

[60Day-01-40]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Cognitive Tuning for Website Promotion—NEW—National Institute for Occupational Safety and Health (NIOSH), Centers for Disease Control and Prevention (CDC). The mission of the National Institute for Occupational Safety and Health is to promote “safety and health at work for all people through research and prevention.” NIOSH is guided by the National Occupational Research Agenda (NORA), which specifies 21 priority areas for occupational safety and health research. One of the NORA priority areas is intervention effectiveness, which includes “information dissemination and health communication practices.” This project, in testing the effectiveness of a cognitive tuning instruction in increasing visits to a NIOSH website for children and teenagers, would address the intervention effectiveness priority area.

Cognitive tuning refers to two possible orientations a person may have when exposed to information. One orientation is that of a receiver, who is primarily concerned with understanding the information for its own sake. The other orientation is that of a transmitter, who expects to pass on the information by communicating with others. Unlike the receiver, the transmitter is faced with the demand of using the information in the near future and is likely to be motivated to appear competent and knowledgeable in front of other people when passing on the information. Past research has shown that transmitters, compared to receivers, show more attitude change when given information about issues or persons. Also, the attitude change for transmitters tends to be more persistent than for receivers.

The Elaboration Likelihood Model (ELM) is a theory of attitude change that has achieved much empirical support and has organized a large body of previously fragmented results. The ELM posits that the nature of attitude change depends on whether the person is thinking carefully about the issue at hand. A person thinking about an issue is likely to form an attitude that is persistent, resistant to attack, and predictive of behavior. Conversely, a person who lacks either the motivation or the ability to think carefully about an issue is likely to form an attitude that is transitory, easy to change, and unpredictive of behavior.

It is hypothesized that cognitive tuning influences the motivation to think about an issue. Transmitters should be more motivated than receivers to think about presented information because transmitters expect to pass on the information. This hypothesis will be tested in the context of promoting the NIOSH Safety Zone, a website that introduces children and teenagers to occupational safety and health issues. Four different messages about the website will be sent to high school teachers. The messages will vary whether the teacher is told that other teachers have been sent the letter (i.e., whether the teacher is given a transmitter orientation). The messages will also vary the quality of the arguments (strong arguments vs. weak arguments for visiting the website). A subset of the teachers will later be contacted by telephone to answer questions about their attitudes toward the website and whether they intend to visit it. Website hits will be recorded for all teachers in the study, such that teachers receiving different messages will be directed to different entry pages with independent hit counters. Teachers who get transmitter messages should be more influenced by the quality of the arguments than teachers who get receiver messages.

Prior to the study, pretesting sessions will be conducted with high school teachers in or near the Morgantown, WV area. The pretesting will insure that strong arguments and weak arguments differ in the kinds of thoughts elicited from teachers. Strong arguments should elicit more positive thoughts toward visiting the NIOSH website than weak arguments.

If the results support predictions, cognitive tuning will be a promising communication intervention that may be applied across a wide range of occupational safety and health issues. Simply by emphasizing the possibility that occupational safety and health information may be useful in future social interaction with others, a message may motivate people to think carefully about an issue and thus form a more lasting attitude that will influence how they behave. At an median wage of $20.00 per hour, the total cost to respondents will be $5,066.60.

Respondents | Number of respondents | Number of responses per respondent | Average burden per response (in hours) | Total burden in hours
High School Teachers (pretest) | 120 | 1 | 1 | 120.00
High School Teachers (phone contact) | 800 | 1 | 10/60 | 133.33
Total |  |  |  | 253.33

Dated: May 15, 2001.
Nancy Cheal,
Acting Associate Director for Policy, Planning and Evaluation, Centers for Disease Control and Prevention.

[FR Doc. 01-13319 Filed 5-25-01; 8:45 am]

BILLING CODE 4163-18-P